DEPARTMENT OF ENERGY

Federal Energy Regulatory Commission

[Project No. 5596-020]

Town of Bedford, Virginia; Notice Soliciting Scoping Comments

Take notice that the following hydroelectric application has been filed with the Commission and is available for public inspection.

a. Type of Application: New Major License.

b. Project No.: 5596-020.

c. Date filed: April 30, 2021.

d. Applicant: Town of Bedford, Virginia (Town of Bedford).

e. Name of Project: Bedford Hydroelectric Project (Bedford Project or project).

f. Location: The existing project is located on the James River in the Town of Bedford in Bedford and Amherst counties, Virginia. The project does not occupy any federal land.

g. Filed Pursuant to: Federal Power Act, 16 U.S.C. 791(a)-825(r).

h. Applicant Contact: James Rowlett, Electric Systems Engineer, Town of Bedford Electric Department, 877 Monroe Street, Bedford, Virginia 24523; 540-587-6079 or jrowlett@bedfordva.gov; and Joe Peterson, Hydro Plant Engineer, Town of Bedford Electric Department, 877 Monroe Street, Bedford, Virginia 24523; 540-587-6071 or JPeterson@bedfordva.gov.

i. FERC Contact: Andy Bernick at (202) 502-8660, or andrew.bernick@ferc.gov.

j. Deadline for filing scoping comments: March 10, 2023.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Bedford Hydroelectric Project (P-5596-020).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The current license for the Bedford Hydroelectric Project (Bedford Project) authorizes the following project facilities: (1) a 9- to 17-foot-high concrete gravity dam with a 1,680-foot-long concrete spillway; (2) a 57-acre impoundment with a storage capacity of 350 acre-feet at the normal maximum pool elevation of 627.7 feet North American Vertical Datum of 1988 (NAVD 88); (3) a 1,200-foot-long, 180-foot-wide, 16-foot-deep power canal; (4) a power canal headgate composed of three 21.6-foot-wide, 15.9-foot-high steel gates; (5) a 49.1-foot-wide, 29.47-foot-high steel trashrack with a clear bar spacing of 3.5 inches; (6) a 55-foot-long, 80-foot-wide powerhouse; (7) a 65-foot-long, 120-foot-wide tailrace; (8) two 2.5-megawatt (MW) turbine-generator units with a total capacity of 5.0 MW; (9) a 120-foot-long, 4-kilovolt (kV) transmission line; (10) one 4.16/23 kV, 5-megavolt-ampere (MVA) step-up transformer at the project substation, serving as the point of interconnection with the Town of Bedford's power grid; and (11) appurtenant facilities.

The Town of Bedford proposes to: (1) construct a new 45-foot by 55-foot maintenance shed within a previously disturbed area north of the powerhouse; and (2) modify the project boundary to remove 54.7 acres (including a 2,800-foot-long transmission line authorized in the current license that the Town of Bedford alleges is no longer part of the primary transmission system) and add 43.6 acres (to maintain the visual character of aesthetic resources within the current project boundary, including a Virginia scenic byway and an historic trail), for a total decrease of 11.1 acres.

The Bedford Project is operated in run-of-river mode. The average annual generation is estimated to be 113,377 megawatt-hours.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-5596). For assistance, contact FERC at FERCOnlineSupport@ferc.gov or call toll-free, (866) 208-3676 or TYY, (202) 502-8659. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

n. You may also register online at http://www.ferc.gov/docs-filing/esubscription.asp to be notified via email of new filings and issuances related to this or other pending projects. For assistance, contact FERC Online Support.

o. Scoping Process: Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued February 8, 2023.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 8, 2023.
Kimberly D. Bose,
Secretary.

[FR Doc. 2023-03105 Filed 2-13-23; 8:45 am]

BILLING CODE 6717-01-P